DEPARTMENT OF LABOR

Employment and Training Administration

[TA-W-39, 364]

Spartan International Rosemont Plant, Jonesville, South Carolina; Notice of Termination of Investigation

Pursuant to Section 221 of the Trade Act of 1974, an investigation was initiated on June 4, 2001, in response to a worker petition which was filed on behalf of workers at Spartan International Rosemont Plant, Jonesville, South Carolina.

This case is being terminated because the Department was unable to locate an official of the Company to obtain the information necessary to issue a determination. Consequently, further investigation in this case would serve no purpose, and the investigation has been terminated.

Signed at Washington, DC this 20th day of August, 2001.
Linda G. Poole,
Certifying Officer, Division of Trade Adjustment Assistance.

[FR Doc. 01-21843 Filed 8-28-01; 8:45 am]

BILLING CODE 4510-30-M